DEPARTMENT OF STATE

[Public Notice 4249]

Bureau of Educational and Cultural Affairs Request for Grant Proposals: Uzbekistan Educational Partnerships Program in Cultural and Comparative Religious Studies

SUMMARY: The Office of Global Educational Programs of the Bureau of Educational and Cultural Affairs announces an open competition for the Uzbekistan Educational Partnerships Program in Cultural and Comparative Religious Studies. Public and private non-profit organizations meeting the provisions described in Internal Revenue Code section 26 USC 501(c)(3) may submit proposals to support mutually beneficial partnerships which contribute to the development of instruction in comparative religion, cultural studies/history, and English at specific eligible educational institutions in Uzbekistan. The means for achieving these objectives may include the exchange of university and college faculty and research scholars, administrators, and advanced students from Uzbekistan with appropriate U.S. counterpart colleges and universities.

In a separate solicitation, the Bureau anticipates announcing a program focused on Religious and Cultural Pluralism in Uzbekistan and the United States. That program will support community exchanges between the United States and Uzbekistan and will support visits by U.S. specialists to Uzbekistan. The Uzbekistani institutions identified for participation in the Uzbekistan Educational Partnerships Program in Cultural and Comparative Religious Studies may be appropriate venues for experts sponsored by the program for Religious and Cultural Pluralism in Uzbekistan and the United States. Therefore the grantees in the two programs for Uzbekistan will be expected to coordinate activities closely with one another to make sure that the activities of the two programs are complementary.

Program Information

Overview: The Uzbekistan Educational Partnerships Program in Cultural and Comparative Religious Studies will fund a three-year project to permit U.S. institutions to work with specified counterpart universities and educational institutions in Uzbekistan. Applicants should propose a creative model for exchange that includes both a strategy for identifying U.S. instructors and scholars to visit the partner institutions in Uzbekistan and a strategy for identifying academic institutions to host exchange participants from Uzbekistan. Pending availability of funds, approximately $1,000,000 is expected to be available under the FREEDOM Support Act for the Uzbekistan Educational Partnerships Program in Cultural and Comparative Religious Studies in FY 2003.

Objectives: The most competitive proposal should benefit all participants and partner institutions although the benefits do not need to be identical for each partner. The proposal should outline a plan to cooperate with Uzbekistani institutions to: (1) Develop courses and curricula in eligible fields; (2) improve teaching methods; (3) develop educational materials which support new courses and curricula; (4) train teachers or other practitioners in the effective use of these materials; (5) engage in collaborative research and (6) foster self-sustaining relationships with U.S. academic institutions and educators.

The program should equip participating Uzbekistani institutions and educators to provide accurate and balanced information about religions, including Islam, and Uzbekistani cultural history framed within a contemporary understanding of human rights and the role of cultural and religious pluralism in a democratic society. At the conclusion of the program, teachers at the participating Uzbekistani institutions should be capable of teaching newly introduced or revised courses and should be able to participate more fully in international dialogue with U.S. and other educators. Students graduating from the participating Uzbekistani institutions should have a better understanding of the relationships between religion, politics, and society in modern democracies and should be better prepared to apply this understanding in public service, education, and the private sector, and to contribute to building a democratic society.

The Bureau anticipates that participating U.S. institutions and individuals will benefit by developing or strengthening regional expertise, or by gaining access to new opportunities for archival or library research. Participating U.S. faculty may utilize this experience to develop new courses or incorporate comparative content into existing courses. Students at participating U.S. institutions will gain a better understanding of Central Asia through interaction with visiting scholars and U.S. faculty who have incorporated international content into their courses.

Pending availability of funds, the grant should begin on or about June 15, 2003.

Applicants should propose a multi-institutional plan that includes all of the partners listed below as primary partners:

The Tashkent Islamic University;

The Al-Bukhari Islamic Institute;

The Institute of History of the Academy of Sciences;

The Al-Beruni Institute of Oriental Studies of the Academy of Sciences;

The Tashkent State University of Oriental Studies.

Additional institutions may be included as secondary partners. The U.S. Embassy in Tashkent must approve any additional partner institutions.

In order to successfully coordinate the multiple components of this project it will be necessary for the grantee organization to have a field office in Uzbekistan, or to establish one by the time grant activities begin. The grantee will be expected to closely coordinate activities with the U.S. Embassy in Tashkent.

Participant eligibility: All participants traveling to Uzbekistan funded under the grant must be U.S. citizens. Foreign participants must be both qualified to receive U.S. J-1 visas and willing to travel to the U.S. under the provisions of a J-1 visa during the exchange visits funded by this Program.

Programs must comply with J-1 visa regulations. Please refer to Solicitation Package for further information.

Budget Guidelines: The Bureau anticipates awarding one grant not to exceed $1,000,000. Applicants may submit a budget not to exceed this amount. Bureau grant guidelines require that organizations with less than four years experience in conducting international exchanges be limited to $60,000 in Bureau funding. The Bureau encourages applicants to provide maximum levels of cost-sharing and funding from private sources in support of its programs.

Applicants must submit a comprehensive budget for the entire program. There must be a summary budget as well as breakdowns reflecting both administrative and program budgets. Please refer to the Solicitation Package for complete budget guidelines and formatting instructions.

Announcement Title and Number: All correspondence with the Bureau concerning this RFGP should reference the above title and number ECA/A/S/U-03-13.

FOR FURTHER INFORMATION CONTACT: To request a solicitation package, contact the Humphrey Fellowships and Institutional Linkages Branch; Office of Global Educational Programs; Bureau of Educational and Cultural Affairs; ECA/A/S/U, Room 349; U.S. Department of State; SA-44, 301 Fourth Street, SW.; Washington, DC 20547; phone: (202) 619-5289, fax: (202) 401-1433. The Solicitation Package includes more detailed award criteria, all application forms, and guidelines for preparing proposals, including specific criteria for preparation of the proposal budget. Applicants desiring more information may contact Program Officer Jonathan Cebra at 202-205-8379 or jcebra@pd.state.gov.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

Deadline for Proposals: All proposal copies must be received at the Bureau of Educational and Cultural Affairs by 5 p.m. Washington, DC time on Tuesday, April 1, 2003. Faxed documents will not be accepted at any time. Documents postmarked the due date but received on a later date will not be accepted. Each applicant must ensure that the proposals are received by the above deadline.

Applicants must follow all instructions in the Solicitation Package. The original and ten copies of the application should be sent to: Department of State, SA-44, Bureau of Educational and Cultural Affairs, Ref.: ECA/A/S/U-03-13, Program Management, ECA/EX/PM, Room 534, 301 4th Street, SW., Washington, DC 20547.

No later than one week after the competition deadline, applicants must also submit the Proposal Title Sheet, Executive Summary, and Proposal Narrative sections of the proposal as e-mail attachments in Microsoft Word (preferred), WordPerfect, or as ASCII text files to the following e-mail address: partnerships@pd.state.gov. In the e-mail message subject line, include the following: ECA/A/S/U-03-13. To reduce the time needed to obtain advisory comments from the Public Affairs Section of the U.S. Embassy in Tashkent, the Bureau will transmit these files electronically to this office.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other elements of the Department or the United States Government. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

(1) Broad and Enduring Significance of Institutional Objectives: Program objectives should have significant and ongoing benefits for the participating institutions and for their surrounding societies or communities.

(2) Creativity and Feasibility of Strategy to Achieve Objectives: Strategies to achieve program objectives should be feasible and realistic within the budget and timeframe. These strategies should utilize and reinforce exchange activities creatively to ensure an efficient use of program resources.

(3) Multiplier effect/impact: Proposed programs should strengthen long-term mutual understanding, including maximum sharing of information and establishment of long-term institutional and individual linkages.

(4) Support of Diversity: Proposals should demonstrate substantive support of the Bureau's policy on diversity by explaining how issues of diversity are included in objectives for all institutional partners. Issues resulting from differences of race, ethnicity, gender, religion, geography, socio-economic status, or physical challenge should be addressed during program implementation. In addition, program participants and administrators should reflect the diversity within the societies which they represent (see the section of this document on “Diversity, Freedom, and Democracy Guidelines”). Proposals should also discuss how the various institutional partners approach diversity issues in their respective communities or societies.

(5) Institution's Capacity and Record/Ability: Proposed personnel and institutional resources should be adequate and appropriate to achieve the program or project's goals. Proposals should demonstrate an institutional record of successful exchange programs, including responsible fiscal management and full compliance with all reporting requirements for past Bureau grants as determined by Bureau Grant Staff. The Bureau will consider the past performance of prior recipients and the demonstrated potential of new applicants.

(6) Evaluation: Proposals should outline a methodology for determining the degree to which the project meets its objectives, both while it is underway and at its conclusion. The final program evaluation should include an external component and should provide observations about the program's influence within the participating institutions as well as their surrounding communities or societies.

(7) Cost-effectiveness: Administrative and program costs should be reasonable and appropriate with cost-sharing provided by all participating institutions within the context of their respective capacities. Cost-sharing is viewed as a reflection of institutional commitment to the program.

(8) Value to U.S.-Partner Country Relations: Proposed projects should receive positive assessments by the U.S. Department of State's geographic bureau and overseas officers.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program cited above is provided through the Freedom for Russia and Emerging Eurasian Democracies and Open Markets Support Act of 1992 (FREEDOM Support Act).

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: January 9, 2003.
C. Miller Crouch,
Acting Assistant Secretary for Educational and Cultural Affairs, Department of State.

[FR Doc. 03-980 Filed 1-15-03; 8:45 am]

BILLING CODE 4710-05-P